DEPARTMENT OF ENERGY

Federal Energy Regulatory Commission

[Project No. 4334-017]

EONY Generation Limited; Notice of Application Accepted for Filing and Soliciting Motions To Intervene and Protests

Take notice that the following hydroelectric application has been filed with the Commission and is available for public inspection.

a. Type of Application: New Major License.

b. Project No.: 4334-017.

c. Date filed: January 28, 2021.

d. Applicant: EONY Generation Limited (EONY).

e. Name of Project: Philadelphia Hydroelectric Project.

f. Location: On the Indian River, in the Village of Philadelphia in Jefferson County, New York. The project does not occupy any federal land.

g. Filed Pursuant to: Federal Power Act 16 U.S.C. 791(a)-825(r).

h. Applicant Contact: Franz Kropp, Director, Generation, EONY, 7659 Lyonsdale Road, Lyons Falls, NY 13368; (613) 225-0418, ext. 7498. Murray Hall, Manager, Generation, EONY, 7659 Lyonsdale Road, Lyons Falls, NY 13368; (613) 382-7312.

i. FERC Contact: Emily Carter at (202) 502-6512, or Emily.Carter@ferc.gov.

j. Deadline for filing motions to intervene and protests: 60 days from the issuance date of this notice.

The Commission strongly encourages electronic filing. Please file motions to intervene and protests using the Commission's eFiling system at http://www.ferc.gov/docs-filing/efiling.asp. For assistance, please contact FERC Online Support at FERCOnlineSupport@ferc.gov, (866) 208-3676 (toll free), or (202) 502-8659 (TTY). In lieu of electronic filing, you may send a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-4334-017.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted but is not ready for environmental analysis at this time.

l. Project Description: The existing Philadelphia Hydroelectric Project consists of (1) a 65-acre reservoir at a normal maximum water surface elevation of 475.4 feet; ¹ (2) two concrete dams joined by an island and designated as the east diversion dam, which is 60 feet long and 2 to 3 feet high with a crest elevation of 474.4 feet, and topped with 1.2-foot-high flashboards, and the west diversion dam, which has two sections totaling approximately 30 feet long and 10.4 feet high with a crest elevation of 475.4 feet; (3) a 45-foot-long non-overflow section that includes a reinforced concrete intake structure; (4) a 377-foot-long, 9.5-foot-diameter concrete penstock; (5) a 54.5-foot-long by 30-foot-wide reinforced concrete powerhouse; (6) one 3.645-megawatt horizontal Kaplan-type turbine-generator unit; (7) trashracks with 2.5-inch clear spacing; (8) a 4,160-volt, approximately 50-foot-long buried transmission line; (9) a switchyard; and (10) appurtenant facilities. The average annual generation was 10,092,492 kilowatt-hours for the period from 2016 to 2020.

¹ All elevations are in National Geodetic Vertical Datum of 1929.

EONY currently operates the project in run-of-river mode and discharges a minimum flow of 20 cubic feet per second (cfs) into the project's 1,250-foot-long bypassed reach to project aquatic resources.

As part of the license application, EONY filed a settlement agreement on behalf of itself, the U.S. Fish and Wildlife Service, and the New York State Department of Environmental Conservation. As part of the settlement agreement, EONY proposes to: (1) Continue to operate the project in a run-of-river mode; (2) provide a minimum flow in the bypassed reach of 28 cfs; ² (3) install seasonal trashracks with 1-inch spacing; (4) implement a Trashrack Operations and Maintenance Plan, a Bat and Eagle Protection Plan, an Invasive Species Management Plan, and an Impoundment Drawdown and Cofferdam Plan; and (5) implement several improvements to an existing fishing platform to make it accessible to persons with disabilities, including the addition of an accessible parking space, an associated access aisle and access route from the accessible parking space to the fishing platform, and modifications to the railing surrounding the fishing platform.

² EONY determined that the proposed 28-cfs minimum flow would not result in incremental losses of generation compared to the current condition because the field measurement of the existing minimum flow was approximately 28 cfs, which accounted for flashboard leakage and was most likely present during the term of the existing license.

m. A copy of the application is available for review via the Commission's website at http://www.ferc.gov using the “eLibrary” link. Enter the docket number excluding the last three digits in the docket number field to access the document (P-4334). For assistance, contact FERC Online Support. At this time, the Commission has suspended access to the Commission's Public Reference Room due to the proclamation declaring a National Emergency concerning the Novel Coronavirus Disease (COVID-19) issued by the President on March 13, 2020. For assistance, contact FERC at FERCOnlineSupport@ferc.gov or call toll-free, (866) 208-3676 or (202) 502-8659 (TTY). In addition, the public portions of the application will be made available during regular business hours at two locations: (1) EONY's Lyonsdale, NY office located at 7659 Lyonsdale Road, Lyons Falls, New York 13368; and (2) Bodman Memorial Library located at 8 Aldrich Street, Philadelphia, New York 13673.

You may also register online at http://www.ferc.gov/docs-filing/esubscription.asp to be notified via email of new filings and issuances related to this or other pending projects. For assistance, contact FERC Online Support.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Dated: June 21, 2021.
Kimberly D. Bose,
Secretary.

[FR Doc. 2021-13600 Filed 6-24-21; 8:45 am]

BILLING CODE 6717-01-P